Title 3—

The President

Executive Order 13634 of December 21, 2012

Reestablishment of Advisory Commission

By the authority vested in me as President by the Constitution and the laws of the United States of America, it is hereby ordered as follows:

Section 1. Reestablishing the President's Advisory Commission on Educational Excellence for Hispanics. The President's Advisory Commission on Educational Excellence for Hispanics (Commission), as set forth under the provisions of Executive Order 13555 of October 19, 2010, is hereby reestablished and shall terminate on September 30, 2013, unless extended by the President. The same members who were serving on the Commission on October 19, 2012, are hereby reappointed to the Commission as reestablished by this order, as if the Commission had continued without termination through the date of this Executive Order.

Sec. 2. General Provisions. (a) Nothing in this order shall be construed to impair or otherwise affect:

(1) the authority granted by law to an executive department, agency, or the head thereof; or

(2) the functions of the Director of the Office of Management and Budget relating to budgetary, administrative, or legislative proposals.

(b) This order is not intended to, and does not, create any right or benefit, substantive or procedural, enforceable at law or in equity by any party against the United States, its departments, agencies, or entities, its officers, employees, or agents, or any other person.

THE WHITE HOUSE,

Washington, December 21, 2012.

[FR Doc. 2012-31574

Filed 12-28-12; 11:15 am]

Billing code 3295-F3